DEPARTMENT OF THE INTERIOR

National Park Service

Notice of Intent to Repatriate Cultural Items from Phillips County, KS in the Possession of the Kansas State Historical Society, Topeka, KS

AGENCY: National Park Service

ACTION: Notice

Notice is hereby given under the Native American Graves Protection and Repatriation Act, 43 CFR 10.10 (a)(3), of the intent to repatriate cultural items from Phillips County, KS in the possession of the Kansas State Historical Society, Topeka, KS that meet the definition of “unassociated funerary object” under Section 2 of the Act.

This notice is published as part of the National Park Service's administrative responsibilities under NAGPRA, 43 CFR 10.2 (c). The determinations within this notice are the sole responsibility of the museum, institution, or Federal agency that has control of these cultural items. The National Park Service is not responsible for the determinations within this notice.

The 19 cultural items include 1 pottery vessel, 3 chipped stone projectile points, 1 bone tool, 1 shell pendant, 1 shell gorget, and 12 disc shell beads.

In 1944, these cultural items were donated to the Kansas Historical Society by Cecil Kingery of Phillipsburg, KS. Donor information indicates that these cultural items were recovered from “an Indian grave” exposed by roadwork two miles west and a half-mile south of Phillipsburg, Phillips County, KS.

Recent oral history has identified this gravesite as site 14PH343, with the disturbance of the grave occurring in 1931. Based on ceramic analysis, site 14PH343 has been identified with the Upper Republican Aspect of the Central Plains Tradition, approximately A.D. 1250. Based on temporal position, geographic location, and continuities of material culture, the Upper Republican Aspect period has been identified as ancestral to the Pawnee Nation of Oklahoma.

Based on the above-mentioned information, officials of the Kansas State Historical Society have determined that, pursuant to 43 CFR 10.2 (d)(2)(ii), these 19 cultural items are reasonably believed to have been placed with or near individual human remains at the time of death or later as part of the death rite or ceremony and are believed, by a preponderance of the evidence, to have been removed from a specific burial site of an Native American individual. Officials of the Kansas State Historical Society also have determined that, pursuant to 43 CFR 10.2 (e), there is a relationship of shared group identity that can be reasonably traced between these items and the Pawnee Nation of Oklahoma.

This notice has been sent to officials of the Pawnee Nation of Oklahoma. Representatives of any other Indian tribe that believes itself to be culturally affiliated with these objects should contact Randall M. Thies, Archeologist, Kansas State Historical Society, 6425 Southwest Sixth Avenue, Topeka, KS 66615-1099, telephone (785) 272-8681, extension 267, before September 28, 2000. Repatriation of these objects to the Pawnee Nation of Oklahoma may begin after that date if no additional claimants come forward.

Dated: August 18, 2000.
John Robbins,
Assistant Director, Cultural Resources Stewardship and Partnerships.

[FR Doc. 00-21972 Filed 8-28-00; 8:45 am]

BILLING CODE 4310-70-F